DEPARTMENT OF HOMELAND SECURITY

Federal Emergency Management Agency

[Docket ID FEMA-2007-0008]

National Advisory Council; Request for Applicants for Appointment

AGENCY: Federal Emergency Management Agency, DHS.

ACTION: Committee Management; Request for Applicants for Appointment to the National Advisory Council.

SUMMARY: The Federal Emergency Management Agency (FEMA) is requesting individuals who are interested in serving on the FEMA National Advisory Council (NAC) to apply for appointment as identified in this notice. Pursuant to the Post-Katrina Emergency Management Reform Act of 2006 (PKEMRA), the NAC shall advise the Administrator of FEMA on all aspects of emergency management. The NAC shall incorporate state, local, tribal, and territorial government, non-profit and private sector input in the development and revision of national emergency management doctrine, policy, and plans. The NAC consists of up to 35 members, all of whom are experts and leaders in their respective fields. FEMA seeks to appoint individuals to seven (7) positions, or disciplines, on the NAC that will be open due to term expiration. If other positions are vacated during the application process, candidates may be selected from the pool of applicants to fill the vacated positions.

DATES: Applications will be accepted until 11:59 p.m. EST on February 17, 2015.

ADDRESSES: The preferred method of submission for application packages is via email. However, application packages may also be submitted by fax or mail. Please only submit by ONE of the following methods:

• Email: FEMA-NAC@fema.dhs.gov. Please save the document as “LAST NAME_FIRST NAME” and attach to the email.

• Fax: (540) 504-2331.

• Mail: Office of the National Advisory Council, Federal Emergency Management Agency, 8th Floor, 500 C Street SW., Washington, DC 20472-3184.

FOR FURTHER INFORMATION CONTACT: Alexandra Woodruff, Alternate Designated Federal Officer, The Office of the National Advisory Council, Federal Emergency Management Agency, 8th Floor, 500 C Street SW., Washington, DC 20472-3184; telephone (202) 646-2700; fax (540) 504-2331; and email FEMA-NAC@fema.dhs.gov. For more information on the NAC, please visit http://www.fema.gov/national-advisory-council.

SUPPLEMENTARY INFORMATION: The NAC is an advisory committee established in accordance with the provisions of the Federal Advisory Committee Act (FACA), 5 U.S.C. Appendix. As required by PKEMRA, the Secretary of Homeland Security established the NAC to ensure effective and ongoing coordination of Federal preparedness, protection, response, recovery, and mitigation for natural disasters, acts of terrorism, and other man-made disasters. FEMA is requesting individuals who are interested in serving on the NAC to apply for appointment. Individuals selected for appointment will serve as either a Special Government Employee (SGE) or a representative in the disciplines listed below for three-year terms (total of 7 appointments): Elected State Government Officials (one representative appointment), In-Patient Medical Providers (one SGE appointment), Elected Local Government Officials (one representative appointment), Emergency Management (one representative appointment), Emergency Response Providers (two representative appointments), Cyber Security (one SGE appointment). These appointments will be for three-year terms. The Administrator may appoint additional candidates to serve as FEMA Administrator Selections (as SGE appointments). More information about the disciplines can be found in the NAC Charter: http://www.fema.gov/media-library-data/18059cd64e864a278afab92581092481/NAC+Charter_CMO+filed+23APR2013+508c.pdf.

Individuals interested in serving on the NAC are invited to apply for consideration of appointment by submitting an application package to the Office of the NAC as listed in the ADDRESSES section of this notice. There is no application form; however, each application package MUST include the following information:

• Cover letter, addressed to the Office of the NAC, detailing the discipline area(s) being applied for, current position title and organization, mailing address, a current telephone number and email address;

• Resume or Curriculum Vitae (CV); and

• Letters of Recommendation addressed to the Office of the NAC (if applicable—not required).

Incomplete applications will not be considered. Current NAC members whose terms are ending should notify the Office of the NAC of their interest in reappointment in lieu of submitting a new application, and if desired, provide updated application materials for consideration.

Each application will be scored based on the following criteria:

1. Demonstrated knowledge of Federal disasters and emergency response functions;

2. Demonstrated skill in working with high level officials and governments representing divergent points of view;

3. Experience coordinating and integrating activities with Federal, State, Local, Tribal or Territorial governments, professional associations, and practitioner groups;

4. Proven leadership experience in specified discipline area(s) of interest;

5. Demonstrated knowledge of national emergency management policies and doctrine;

6. Demonstrated service on national, State, or Local task force, committee, or advisory body dealing with emergency preparedness and response;

7. Demonstrated experience in a senior management and leadership position, providing supervisory direction to an organization responsible for effective administration of complex policies and programs;

8. Demonstrated knowledge of and experience with the strategic planning process for an organization or a committee;

9. Proven ability to provide expert technical advice, guidance, and recommendations on critical program issues requiring new approaches, establishment of precedents or the interpretation of controversial law, regulation, or past practice; and

10. Demonstrated ability to communicate effectively orally and in writing.

Appointees may be designated as a SGE as defined in section 202(a) of title 18, United States Code, or as a representative member. Candidates selected for appointment as SGEs are required to complete a Confidential Financial Disclosure Form (Office of Government Ethics (OGE) Form 450). This form can be obtained by visiting the Web site of the Office of Government Ethics (http://www.oge.gov). Please do not submit this form with your application.

The NAC meets in person approximately two times a year. Members may be reimbursed for travel and per diem, and all travel for NAC business must be approved in advance by the Designated Federal Officer. NAC members are expected to serve on one of the three NAC Subcommittees, which regularly meet by teleconference throughout the year. DHS does not discriminate in employment on the basis of race, color, religion, sex, national origin, political affiliation, sexual orientation, gender identity, marital status, disability and genetic information, age, membership in an employee organization, or other non-merit factor. DHS strives to achieve a widely diverse candidate pool for all of its recruitment actions. Current DHS and FEMA employees, FEMA Disaster Assistance Employees, FEMA Reservists, and DHS and FEMA contractors and potential contractors will not be considered for membership. Federally registered lobbyists may apply for positions designated as representative appointments but are not eligible for positions that are designated as SGE appointments.

Dated: December 17, 2014.
W. Craig Fugate,
Administrator, Federal Emergency Management Agency.

[FR Doc. 2015-00664 Filed 1-15-15; 8:45 am]

BILLING CODE 9111-48-P